SMALL BUSINESS ADMINISTRATION

13 CFR Part 125

RIN 3245-AH70

Ownership and Control and Contractual Assistance Requirements for the 8(a) Business Development Program; Correction

AGENCY: U.S. Small Business Administration.

ACTION: Correcting amendments.

SUMMARY: The Small Business Administration (SBA) is correcting a final rule that was published in the Federal Register on April 27, 2023. The rule implemented several changes to the ownership and control requirements for the 8(a) Business Development program, implemented changes relating to 8(a) contracts, and implemented a statutory amendment in the National Defense Authorization Act (NDAA) for Fiscal Year (FY) 2022.

DATES: Effective October 11, 2023.

FOR FURTHER INFORMATION CONTACT: Donna Fudge, U.S. Small Business Administration, Office of Policy, Planning, and Liaison, 409 Third Street SW, Washington, DC 20416; (202) 205-6363; Donna.fudge@sba.gov. This phone number may also be reached by individuals who are deaf or hard of hearing, or who have speech disabilities, through the Federal Communications Commission's TTY-Based Telecommunications Relay Service teletype service at 711.

SUPPLEMENTARY INFORMATION: On April 27, 2023, SBA amended its regulation to implement changes to the ownership and control requirements for the 8(a) Business Development program, implement changes related to 8(a) contracts, and implement a statutory amendment from section 863 of the National Defense Authorization Act (NDAA) for Fiscal Year (FY) 2022. This is the second set of corrections. The first set of corrections was published in the Federal Register on May 5, 2023. (88 FR 28985). This document augments those corrections.

In the final rule at § 125.8(b)(iv), SBA inadvertently omitted a regulatory change instruction to clarify language stating how the funds remaining in the joint venture bank account at the conclusion of the joint venture contract(s) and/or termination of the joint venture are to be distributed. This paragraph is revised to state that the funds remaining in the joint venture bank account shall be distributed at the termination of the joint venture according to the percentage of ownership.

This document also corrects a citation in 13 CFR 125.4(c)(5).

List of Subjects in 13 CFR Part 125

Government contracts, Government procurement, Reporting and recordkeeping requirements, Small businesses, Technical assistance.

PART 125—GOVERNMENT CONTRACTING PROGRAMS

1. The authority citation for part 125 continues to read as follows:

Authority: 15 U.S.C. 632(p), (q), 634(b)(6), 637, 644, 657r and 657s.

2. Amend § 125.4 by revising (c)(5) to read as follows:

§ 125.4 What is the Government property sales assistance program?

* * * * *

(c) * * *

(5) These provisions are contained in §§ 121.501 through 121.512 of this chapter.

3. Amend § 125.8 by revising (b)(2)(iv) to read as follows:

§ 125.8 What requirements must a joint venture satisfy to submit an offer for a procurement or sale set aside or reserved for small business?

* * * * *

(b) * * *

(2) * * *

(iv) Stating that the small business participant(s) must receive profits from the joint venture commensurate with the work performed by them, or a percentage agreed to by the parties to the joint venture whereby the small business participant(s) receive profits from the joint venture that exceed the percentage commensurate with the work performed by them, and that at the termination of a joint venture, any funds remaining in the joint venture bank account shall be distributed according to the percentage of ownership;

* * * * *

Larry Stubblefield,
Acting Associate Administrator, Government Contracting and Business Development.

[FR Doc. 2023-22370 Filed 10-10-23; 8:45 am]

BILLING CODE 8026-09-P